DEPARTMENT OF THE INTERIOR

National Park Service

Notice of Availability of the Record of Decision for the Environmental Impact Statement on the Falls Creek Hydroelectric Project and Land Exchange, Glacier Bay National Park and Preserve, Alaska

AGENCY: National Park Service, Interior.

ACTION: Notice of Availability of the Record of Decision for the Environmental Impact Statement on the Falls Creek Hydroelectric Project and Land Exchange, Glacier Bay National Park and Preserve, Alaska.

SUMMARY: The National Park Service (NPS) announces the availability of the Record of Decision (ROD) for the Falls Creek Hydroelectric Project and Land Exchange, Glacier Bay National Park and Preserve, Alaska.

This ROD documents the decision by the NPS on behalf of the Secretary of Interior (Secretary) to implement applicable portions of the Glacier Bay National Park Boundary Adjustment Act of 1998 (Pub. L. 105-317) (Act). The Act mandated the Secretary implement specific actions once certain provisions were met. In this ROD the NPS addresses its decision to:

• Exchange land presently in Glacier Bay National Park (Glacier Bay) to the State of Alaska (state);

• Add state land to Klondike Gold Rush National Historical Park (Klondike Gold Rush);

• Designate an island in Blue Mouse Cove and Cenotaph Island in Glacier Bay as wilderness; and

• Adjust national park and wilderness boundaries as necessary to compensate for the land exchange.

By addressing these actions the NPS will fulfill the Department of Interior's responsibility under the Act.

This ROD follows the Federal Energy Regulatory Commission's (FERC) October 29, 2004 decision to issue a license to Gustavus Electric Company allowing the construction and operation of the Falls Creek Hydroelectric Project (FERC No. 11659). It also follows the FERC Order Denying Rehearing on March 24, 2005 and FERC's June 17, 2005 denial of a request to reconsider the March 24, 2005 Order. This record of decision does not address any of FERC's responsibility under the Act nor does it address any aspect of the licensing process and decision as discussed in the final environmental impact statement (final EIS) and the FERC Order Issuing License and the subsequent rehearing denials.

The NPS has decided to adopt the Preferred Alternative as presented in the final EIS. This will result in conveying approximately 1,034 acres in Glacier Bay to the State of Alaska and in exchange receiving approximately 1,040 acres in Klondike Gold Rush. Included is the designation of 1,069 acres in Glacier Bay as wilderness and deletion of 1040 acres of wilderness in Glacier Bay. The National Park and National Wilderness boundaries will be adjusted.

The ROD briefly discusses the Act and background of the hydroelectric project and land exchange, summarizes public involvement during the planning process, states the decision and discusses the basis for it, describes other alternatives considered, specifies the environmentally preferable alternative, identifies measures adopted to minimize potential environmental harm, and provides a non-impairment determination.

ADDRESSES: The ROD can be found online at the http://www.nps.gov/glba. Copies of the ROD are available on request from: Bruce Greenwood, National Park Service, Alaska Regional Office, 240 West 5th Avenue, Anchorage, Alaska 99501. Telephone: (907) 644-3503.

FOR FURTHER INFORMATION CONTACT: Bruce Greenwood, Project Manager, National Park Service, Alaska Region, 240 West 5th Avenue, Anchorage, Alaska 99501. Telephone: (907) 644-3503.

SUPPLEMENTARY INFORMATION: The NPS prepared a final EIS, as required, under the National Environmental Policy Act of 1969 and Council of Environmental Quality regulations (40 Code of Federal Regulations (CFR) Part 1500).

A Notice of Intent to prepare an environmental impact statement, published in the Federal Register on July 5, 2002 (67 FR 129), formally initiated the environmental impact statement (EIS) process. A draft EIS was issued on November 7, 2003 (68 FR 216) for a 60-day public comment period, that ended January 6, 2004. A Federal Register notice announcing the availability of the final EIS was published by the U.S. Environmental Protection Agency on July 9, 2004 (69 FR 41476), commencing the required 30-day no-action period. The final EIS describes and analyzes the environmental impacts of four action alternatives and a no-action alternative.

The NPS has decided to adopt the Preferred Alternative as presented in the final EIS. This will result in conveyance of 1,034 acres to the state of Alaska. The Preferred Alternative is a slight variation of the final EIS Maximum Boundary Alternative. The Maximum Boundary Alternative included the entire 1,145 acres of Glacier Bay park land identified in the Act as potentially available for exchange and the development of a hydroelectric power project. Because 95 acres in the upper portion of the Falls Creek area was not needed for construction of the hydroelectric power project, the Maximum Boundary Alternative was reduced by this amount. To compensate for the 1,034 acres in Glacier Bay that will be exchanged to the state of Alaska, the state of Alaska will transfer to NPS, approximately 1,040 acres of Chilkoot parcels within Klondike Gold Rush. This land will be administered as part of the historical park. Upon completion of the exchange of land under this Act, the Secretary shall adjust, as necessary, the boundaries of Glacier Bay to exclude the land exchanged to the State of Alaska and at Klondike Gold Rush to include the land acquired from the State of Alaska.

In accordance with Section 2(b) of the Boundary Act, to compensate for the 1,034 acres deleted from the National Wilderness Preservation System at Glacier Bay, the unnamed island near Blue Mouse Cove and Cenotaph Island, totaling 1,069 acres, will be designated as wilderness. The wilderness boundaries in the Falls Creek, Blue Mouse Cove, and Cenotaph Island areas will be adjusted accordingly.

Dated: March 21, 2006.
Marcia Blaszak,
Regional Director, Alaska.

[FR Doc. E6-6485 Filed 4-28-06; 8:45 am]

BILLING CODE 4312-HX-P